SOCIAL SECURITY ADMINISTRATION

20 CFR Part 416

Revised Medical Criteria for Determination of Disability, Musculoskeletal System and Related Criteria

CFR Correction

In Title 20 of the Code of Federal Regulations, Parts 400 to 499, revised as of April 1, 2006, on page 948, § 416.933 is corrected by adding a sentence after the second sentence to read as follows:

§ 416.933 How we make a finding of presumptive disability or presumptive blindness.

* * * For other impairments, a finding of disability or blindness must be based on medical evidence or other information that, though not sufficient for a formal determination of disability or blindness, is sufficient for us to find that there is a high degree of probability that you are disabled or blind. * * *

[FR Doc. 07-55503 Filed 3-16-07; 8:45 am]

BILLING CODE 1505-01-D